DEPARTMENT OF THE INTERIOR

Fish and Wildlife Service

[FWS-R4-ES-2011-N031; 40120-1112-0000-F2]

Endangered and Threatened Wildlife and Plants; Receipt of Applications for Incidental Take Permits; Availability of Proposed Low-Effect Habitat Conservation Plan and Associated Documents; Indian River County, FL

AGENCY: Fish and Wildlife Service, Interior.

ACTION: Notice of availability; request for comment/information.

SUMMARY: We, the Fish and Wildlife Service (Service), announce the availability of incidental take permit (ITP) applications and a Habitat Conservation Plan (HCP). Johns Island Club, Incorporated, and the Church of God by Faith (applicants) request ITPs under the Endangered Species Act of 1973, as amended (Act). The applicants anticipate taking about 1.75 acres of Florida scrub-jay (Aphelocoma coerulescens) (scrub-jay) breeding, feeding, and sheltering habitat incidental to land preparation for the extension and paving of a road, the construction of a fellowship hall and storm water retention area, and the expansion and paving of a parking lot located in Indian River County, Florida (project). The permanent alteration of 1.75 acres is expected to result in the take of two families of scrub-jays. The applicants' HCP describes the minimization and mitigation measures proposed to address the effects of the project on the scrub-jay.

DATES: Written comments on the ITP applications and HCP should be sent to the South Florida Ecological Services Office (see ADDRESSES) and should be received on or before April 7, 2011.

ADDRESSES: You may request documents by e-mail, U.S. mail, or fax (see below). These documents are also available for public inspection by appointment during normal business hours at the office below. Send your comments or requests by any one of the following methods.

E-mail: Trish_Adams@fws.gov. Use “Attn.: Permit numbers TE35005A-0 and TE35007A-0” as your message subject line.

Fax: Trish Adams, (772) 562-4288, Attn.: Permit numbers TE35005A-0 and TE35007A-0.

U.S. mail: Trish Adams, HCP Coordinator, South Florida Ecological Services Field Office, Attn: Permit numbers TE35005A-0 and TE35007A-0, U.S. Fish and Wildlife Service, 1339 20th Street, Vero Beach, FL 32960-3559.

In-person drop-off: You may drop off information during regular business hours at the above office address.

FOR FURTHER INFORMATION CONTACT: Ms. Trish Adams, HCP Coordinator, South Florida Ecological Services Office, Vero Beach, Florida (see ADDRESSES), telephone: 772-562-3909, extension 232.

SUPPLEMENTARY INFORMATION: If you wish to submit comments or information, you may do so by any one of several methods. Please reference permit numbers TE35005A-0 and TE35007A-0 in such comments. You may mail comments to the Service's South Florida Ecological Services Office (see ADDRESSES). You may also submit comments via e-mail to trish_adams@fws.gov. Please also include your name and return address in your e-mail message. If you do not receive a confirmation from us that we have received your e-mail message, contact us directly at the telephone number listed under FOR FURTHER INFORMATION CONTACT. Finally, you may hand deliver comments to the Service office listed under ADDRESSES.

Before including your address, phone number, e-mail address, or other personal identifying information in your comments, you should be aware that your entire comment—including your personal identifying information—may be made publicly available at any time. While you can ask us in your comment to withhold your personal identifying information from public review, we cannot guarantee that we will be able to do so.

Applicants' Proposed Project: We received applications from the applicants for incidental take permits, along with a proposed habitat conservation plan. The applicants both request 5-year permits under section 10(a)(1)(B) of the Act (87 Stat. 884; 16 U.S.C. 1531 et seq.). If we approve the permits, the applicants anticipate taking a total of approximately 1.75 acres (0.71 hectares (ha)) of scrub-jay breeding, feeding, and sheltering habitat incidental to land preparation for the extension and paving of a road, the construction of a fellowship hall and storm water retention area, and the expansion and paving of a parking lot and supporting infrastructure (project) in Indian River County, Florida.

Project construction would take place at latitude 27.7508, longitude ^80.4451, Indian River County, Florida. The project includes Indian River County Parcels 31392800007000000001.0, 31392800007000000002.0, 31392800007000000003.0, and 31392800000500000023.0. These parcels are within scrub-jay-occupied habitat. The Service listed this species as threatened in 1987 (June 3, 1987; 52 FR 20715). The listing became effective July 6, 1987.

The applicants propose to mitigate the permanent alteration of occupied scrub-jay habitat by restoring, conserving, and managing a total of 3.81 acres (1.54 ha) of upland scrub in perpetuity. A separate endowment fund, in the amount of $4,572.00, will be established to ensure that the mitigation areas are properly managed in perpetuity.

Our Preliminary Determination: The Service has made a preliminary determination that the applicants' project, including the proposed minimization and mitigation measures, will individually and cumulatively have a minor or negligible effect on the species covered in the HCP. Therefore, issuance of the ITPs is a “low-effect” action and qualifies as a categorical exclusion under the National Environmental Policy Act (NEPA) (40 CFR 1506.6), as provided by the Department of the Interior Manual (516 DM 2 Appendix 1 and 516 DM 6 Appendix 1), and as defined in our Habitat Conservation Planning Handbook (November 1996). We base our determination that issuance of the ITPs qualifies as a low-effect action on the following three criteria: (1) Implementation of the project would result in minor or negligible effects on Federally listed, proposed, and candidate species and their habitats; (2) Implementation of the project would result in minor or negligible effects on other environmental values or resources; and (3) Impacts of the project, considered together with the impacts of other past, present, and reasonably foreseeable similarly situated projects, would not result, over time, in cumulative effects to environmental values or resources that would be considered significant. As more fully explained in our environmental action statement and associated Low Effect Screening Form, the applicants' proposed project qualifies as a “low-effect” project. This preliminary determination may be revised based on our review of public comments that we receive in response to this notice.

Next Steps: The Service will evaluate the HCP and comments submitted thereon to determine whether the applications meet the requirements of section 10(a) of the Act. The Service will also evaluate whether issuance of the section 10(a)(1)(B) ITPs complies with section 7 of the Act by conducting an intra-Service section 7 consultation. The results of this consultation, in combination with the above findings, will be used in the final analysis to determine whether or not to issue the ITPs. If it is determined that the requirements of the Act are met, the ITPs will be issued for the incidental take of the Florida scrub-jay.

Authority: This notice is provided pursuant to Section 10 of the Endangered Species Act and NEPA regulations (40 CFR 1506.6).

Dated: February 11, 2011.
Paul Souza,
Field Supervisor, South Florida Ecological Services Office.

[FR Doc. 2011-5160 Filed 3-7-11; 8:45 am]

BILLING CODE 4310-55-P